DEPARTMENT OF COMMERCE

International Trade Administration

[A-570-943]

Certain Oil Country Tubular Goods From the People's Republic of China: Final Results of Expedited First Sunset Review of the Antidumping Duty Order

AGENCY: Enforcement and Compliance, International Trade Administration, Department of Commerce.

SUMMARY: The Department of Commerce (“the Department”) finds that revocation of the antidumping duty (“AD”) order on certain oil country tubular goods (“OCTG”) from the People's Republic of China (“PRC”) would be likely to lead to continuation or recurrence of dumping at the levels indicated in the “Final Results of Sunset Review” section of this notice.

DATES: Effective: April 7, 2015.

FOR FURTHER INFORMATION CONTACT: David Cordell or Angelica Townshend, AD/CVD Operations, Enforcement and Compliance, International Trade Administration, U.S. Department of Commerce, 14th Street and Constitution Avenue NW., Washington, DC 20230; telephone: (202) 482-0408 or (202) 482-3019, respectively.

SUPPLEMENTARY INFORMATION:

Background

On May 21, 2010, the Department published the AD order on OCTG from the PRC.¹ On December 1, 2014, the Department published a notice of initiation of the first sunset review of the AD order on OCTG from the PRC, pursuant to section 751(c) of the Tariff Act of 1930, as amended (“the Act”).²

¹ See Certain Oil Country Tubular Goods From the People's Republic of China: Amended Final Determination of Sales at Less Than Fair Value and Antidumping Duty Order, 75 FR 28551 (May 21, 2010) (“Amended Final Determination and Order”).

² See Initiation of Five-Year (“Sunset”) Review, 79 FR 71091 (December 1, 2014).

On December 3, 2014, Maverick Tube Corporation (“Maverick”) timely notified the Department of its intent to participate.³ On December 10, 2014, Boomerang Tube (“Boomerang”), Energex Tube, a division of JMC Steel Group (“Energex Tube”), EVRAZ Rocky Mountain Steel (“EVRAZ”), IPSCO Tubulars, Inc. (“IPSCO”), Tejas Tubular Products, Inc. (“Tejas Tubular”), Vallourec Star, L.P. (“Vallourec”), and Welded Tube USA Inc. (“Welded Tube”) filed their intent to participate ⁴

³ See Letter to the Department from Maverick, dated December 3, 2014.

⁴ See Letter to the Department from Boomerang, Energex Tube, EVRAZ, IPSCO, Tejas Tubular, Vallourec, and Welded Tube, dated December 10, 2014.

On December 15, 2014, United States Steel Corporation (“U.S. Steel”) likewise timely notified the Department of its intent to participate.⁵ On December 31, 2014, the Department received an adequate substantive response from Boomerang, Energex Tube, EVRAZ, IPSCO, Maverick, Tejas Tubular, U.S. Steel, Vallourec, and Welded Tube within the 30-day deadline specified in 19 CFR 351.218(d)(3)(i).⁶ The Department did not receive substantive responses from any respondent interested party. As a result, pursuant to section 751(c)(3)(B) of the Act and 19 CFR 351.218(e)(1)(ii)(C)(2), the Department conducted an expedited (120-day) sunset review of the AD order on OCTG from the PRC.

⁵ See Letter to the Department from U.S. Steel, dated December 15, 2014.

⁶ See Letter from domestic interested parties to the Department, entitled “Oil Country Tubular Goods from China, First Sunset Review: Substantive Response to Notice of Initiation,” dated December 31, 2014.

Scope of the Order

This order covers OCTG. The Issues and Decision Memorandum, which is hereby adopted by this notice, provides a full description of the scope of the order.⁷

⁷ See “Expedited First Sunset Review of the Antidumping Duty Order on Certain Oil Country Tubular Goods from the People's Republic of China: Issues and Decision Memorandum,” from Gary Taverman, Associate Deputy Assistant Secretary for Antidumping and Countervailing Duty Operations, to Paul Piquado, Assistant Secretary for Enforcement and Compliance, dated concurrently with this notice (“Issues and Decision Memorandum”).

The Issues and Decision Memorandum is a public document and is on file electronically via Enforcement and Compliance's Antidumping and Countervailing Duty Centralized Electronic Service System.⁸ ACCESS is available to registered users at http://access.trade.gov and to all parties in the Central Records Unit, Room 7046 of the main Department of Commerce building. In addition, a complete version of the Decision Memorandum can be accessed at http://enforcement.trade.gov/frn/. The signed Issues and Decision Memorandum and the electronic version of the Issues and Decision Memorandum are identical in content.

⁸ On November 24, 2014, Enforcement and Compliance changed the name of Enforcement and Compliance's AD and CVD Centralized Electronic Service System (IA ACCESS) to AD and CVD Centralized Electronic Service System (ACCESS). The Web site location was changed from http://iaaccess.trade.gov to http://access.trade.gov. The Final Rule changing the references to the Regulations can be found at 79 FR 69046 (November 20, 2014).

Analysis of Comments Received

In the Issues and Decision Memorandum, we have addressed all issues that parties raised in this review. The issues include the likelihood of continuation or recurrence of dumping and the magnitude of the dumping margins likely to prevail if the Department revoked the order.

Final Results of Sunset Review

Pursuant to section 752(c)(3) of the Act, the Department determines that revocation of the AD order on OCTG from the PRC would be likely to lead to continuation or recurrence of dumping at weighted-average margins up to 99.14 percent.⁹

⁹ See Amended Final Determination and Order, 75 FR 28551-28552 (May 21, 2010).

Administrative Protective Order

This notice also serves as the only reminder to parties subject to administrative protective order (“APO”) of their responsibility concerning the return or destruction of proprietary information disclosed under APO in accordance with 19 CFR 351.305. Timely notification of the return or destruction of APO materials, or conversion to judicial protective order, is hereby requested. Failure to comply with the regulations and terms of an APO is a violation which is subject to sanction.

We are issuing and publishing the results and notice in accordance with sections 751(c), 752(c), and 777(i)(1) of the Act and 19 CFR 351.218.

Dated: March 31, 2015.
Paul Piquado,
Assistant Secretary for Enforcement and Compliance.

Appendix

List of Topics Discussed in the Issues and Decision Memorandum

1. Summary

2. Background

3. Scope of the Order

4. History of the Order

5. Discussion of the Issues

a. Likelihood of Continuation or Recurrence of Dumping

b. Magnitude of the Margin of Dumping Likely to Prevail

6. Final Results of Sunset Review

7. Recommendation

[FR Doc. 2015-07976 Filed 4-6-15; 8:45 am]

BILLING CODE CODE 3510-DS-P